DEPARTMENT OF HEALTH AND HUMAN SERVICES

Food and Drug Administration

[Docket No. FDA-2015-N-0001]

The 2015 Office of Regulatory Science and Innovation Science Symposium

AGENCY: Food and Drug Administration, HHS.

ACTION: Notice of public workshop.

The Food and Drug Administration (FDA) is announcing a public workshop entitled: The 2015 Office of Regulatory Science and Innovation (ORSI) Science Symposium.

The purpose of the public workshop is to increase scientific collaborations with government institutions, academia, industry and other stakeholders, working to improve science, training, and networking in accordance with the FDA mission of the advancement of regulatory science. This venue will also enhance knowledge and awareness of the FDA ORSI resources and provide guidance of its available services.

Date and Time: The public workshop will be held on Monday, April 27, 2015, from 8:15 a.m. to 5:30 p.m.

Location: The public workshop will be held at the FDA White Oak Campus located at 10903 New Hampshire Ave., Bldg. 31, Great Room, Silver Spring, MD 20903. Entrance for the public workshop participants (non-FDA employees) is through Building 1 where routine security check procedures will be performed. For parking and security information, please refer to http://www.fda.gov/AboutFDA/WorkingatFDA/BuildingsandFacilities/WhiteOakCampusInformation/ucm241740.htm or contact us at 2015ORSIScienceSymposium@fda.hhs.gov.]

Contact Person: Diane Rose, Food and Drug Administration, 10903 New Hampshire Avenue, Bldg. 1, Rm. 4233, Silver Spring, MD 20993. 301-796-9600, diane.rose@fda.hhs.gov.

Registration: On-line registration is required (including name, title, affiliation, address, email, telephone and FAX numbers) by April 15, 2015. Those without Internet access should contact Diane Rose (see Contact Person) to register. There is no fee for the public workshop. Early registration is recommended as seating is limited to the first 300 registrants. Registration on the day of the public workshop will be provided on a space available basis from 7:45 a.m. to 8:15 a.m. provided the 300-person registration limit has not been met. Please register at: https://www.eventbrite.com/e/2015-orsi-science-symposium-tickets-14591440391?utm_campaign=new_event_email&utm_medium=email&utm_source=eb_email&utm_term=viewmyevent_button or email us at 2015ORSIScienceSymposium@fda.hhs.gov if you have additional questions. A lite breakfast and lunch are available for pre-purchase.

If you need special accommodations due to a disability, please contact Diane Rose (see Contact Person) at least 7 days in advance.

Streaming Webcast of the Public Workshop: This public workshop will also be Webcast. Persons interested in viewing the Webcast must register online or call us at 301-796-9600 by April 15, 2015. Early registration is recommended because Webcast lines are limited. Organizations are required to register all participants, but to view the Webcast using one connection per location. Webcast participants will be sent technical system requirements after registration and will be sent connection access information after April 23, 2015. If you have never attended a Connect Pro event before, test your connection at https://collaboration.fda.gov/common/help/en/support/meeting_test.htm. To get a quick overview of the Connect Pro program, visit http://inside.fda.gov:9003/ora/southwestregion/dallas/ucm234468.htm. (FDA has verified the Web site addresses in this document, but FDA is not responsible for any subsequent changes to the Web sites after this document publishes in the Federal Register.)

Dated: February 20, 2015.
Leslie Kux,
Associate Commissioner for Policy.

[FR Doc. 2015-04123 Filed 2-26-15; 8:45 am]

BILLING CODE 4164-01-P